FEDERAL COMMUNICATIONS COMMISSION

47 CFR Part 79

[CG Docket No. 05-231; FCC 14-12 and FCC 16-17; FR ID 103115]

Closed Captioning of Video Programming; Telecommunications for the Deaf and Hard of Hearing, Inc., Petition for Rulemaking; Corrections

AGENCY: Federal Communications Commission.

ACTION: Correcting amendments.

SUMMARY: This document corrects the final rules portion of Federal Register documents published on March 31, 2014, and August 23, 2016. These Federal Register documents inadvertently listed several erroneous cross-references and a typographical error. This document corrects the final regulation.

DATES: Effective September 7, 2022.

ADDRESSES: Federal Communications Commission, 45 L Street NE, Washington, DC 20554.

FOR FURTHER INFORMATION CONTACT: Joshua Mendelsohn, Consumer and Governmental Affairs Bureau, (202) 559-7304, or email: Joshua.Mendelsohn@fcc.gov.

SUPPLEMENTARY INFORMATION: A typographical error and a cross-reference error were introduced as part of the March 31, 2014, Federal Register document published at 79 FR 17911. Specifically, a period is missing between two sentences in 47 CFR 79.1(a)(11), and a cross-reference to 47 CFR 79(k)(4) in 47 CFR 79.1(k)(2)(xviii) is being corrected to cross-reference 47 CFR 79.1(k)(3). In addition, three cross-reference errors were introduced as part of the August 23, 2016, Federal Register document published at 81 FR 57473. Specifically, cross-references in 47 CFR 79.1(g)(9)(ii), (iii), and (iv) incorrectly cited to § 79.1(g)(8)(i) and (ii) of the Commission's rules; these citations are being corrected to cross-reference § 79.1(g)(9)(i) and (ii) of the Commission's rules.

List of Subjects in 47 CFR Part 79

Cable television operators, Communications equipment, Multichannel video programming distributors (MVPDs), Satellite television service providers.

Federal Communications Commission.
Katura Jackson,
Federal Register Liaison Officer.

Final Rules

Accordingly, 47 CFR part 79 is corrected by making the following correcting amendments:

PART 79—ACCESSIBILITY OF VIDEO PROGRAMMING

1. The authority citation for part 79 continues to read as follows:

Authority: 47 U.S.C. 151, 152(a), 154(i), 303, 307, 309, 310, 330, 544a, 613, 617.

2. Amend § 79.1 by revising paragraphs (a)(11), (g)(9)(ii), (iii), and (iv), and (k)(2)(xviii) to read as follows:

§ 79.1 Closed captioning of televised video programming.

(a) * * *

(11) Video programming distributor. Any television broadcast station licensed by the Commission and any multichannel video programming distributor as defined in § 76.1000(e) of this chapter, and any other distributor of video programming for residential reception that delivers such programming directly to the home and is subject to the jurisdiction of the Commission. An entity contracting for program distribution over a video programming distributor that is itself exempt from captioning that programming pursuant to paragraph (e)(9) of this section shall itself be treated as a video programming distributor for purposes of this section. To the extent such video programming is not otherwise exempt from captioning, the entity that contracts for its distribution shall be required to comply with the closed captioning requirements of this section.

* * * * *

(g) * * *

(9) * * *

(ii) Corrective action plan. If, after the date for a video programming distributor or video programmer to respond to a notification under paragraph (g)(9)(i) of this section, the Commission subsequently notifies the video programming distributor or video programmer that there is further evidence indicating a pattern or trend of noncompliance with the Commission's rules for quality of closed captioning, the video programming distributor or video programmer shall submit to the Commission, within thirty (30) days after the date of such subsequent notification, a written action plan describing specific measures it will take to bring the video programming distributor's or video programmer's closed captioning performance into compliance with the Commission's closed captioning quality rules. In addition, the video programming distributor or video programmer shall conduct spot checks of its closed captioning quality performance and report to the Commission on the results of such action plan and spot checks 180 days after the submission of such action plan.

(iii) Continued evidence of a pattern or trend of noncompliance. If, after the date for submission of a report on the results of an action plan and spot checks pursuant to paragraph (g)(9)(ii) of this section, the Commission finds continued evidence of a pattern or trend of noncompliance, additional enforcement actions may be taken, which may include admonishments, forfeitures, and other corrective actions.

(iv) Enforcement action. The Commission may take enforcement action, which may include admonishments, forfeitures, and other corrective actions, without providing a video programming distributor or video programmer the opportunity for an initial response to a pattern or trend of noncompliance or a corrective action plan, or both, under paragraphs (g)(9)(i) and (ii) of this section, for a systemic closed captioning quality problem or an intentional and deliberate violation of the Commission's rules for the quality of closed captioning.

* * * * *

(k) * * *

(2) * * *

(xviii) Ensure that all contracted captioners adhere to the Real-Time Captioners Best Practices contained in paragraph (k)(3) of this section.

* * * * *

[FR Doc. 2022-19222 Filed 9-6-22; 8:45 am]

BILLING CODE 6712-01-P